AGENCY FOR INTERNATIONAL DEVELOPMENT

Notice of Meeting; Transformative Pathways Toward a Climate Resilient Agriculture, Food, and Nutrition System: A Public Consultation Ahead of the 27th Conference of Parties

AGENCY: Agency for International Development.

ACTION: Notice of meeting; request for public comment.

SUMMARY: The Board for International Food and Agricultural Development (BIFAD) (see https://www.usaid.gov/bifad) is hosting its 187th public meeting, Transformative Pathways Toward a Climate Resilient Agriculture, Food, and Nutrition System: A Public Consultation Ahead of the 27th Conference of Parties, to present the preliminary findings of a commissioned study on solutions for systemic climate change adaptation and mitigation and scaling climate finance in agricultural, nutrition, and food systems. BIFAD seeks public input in response to the emerging findings. Through this public discussion, BIFAD aims to strengthen the report recommendations and ensure the utility of the study to improve long-term food security and inform ambitious implementation of USAID's Climate Strategy by identifying and addressing points of consensus and key gaps in consultation with the wider agricultural, nutrition, and food systems and climate change communities.

DATES: The virtual meeting will be on Wednesday, October 26, 2022 from 10:00 a.m. to 12:00 p.m. EDT. A public comment period will be held from 10:55-11:15 a.m. EDT.

ADDRESSES: The event is open to the public and will be hosted via ZOOM for virtual public participation. All participants should register at: https://bit.ly/3xPieLj.

SUPPLEMENTARY INFORMATION: In response to USAID's work on the climate change crisis, BIFAD formed the BIFAD Subcommittee on Systemic Solutions for Climate Change Adaptation and Mitigation in Agriculture, Nutrition, and Food Systems (see https://www.usaid.gov/bifad/climatechange for more information) in June, 2022. The subcommittee will lead transdisciplinary evidence gathering to support USAID's role in accelerating inclusive systems change and transformative climate change adaptation and mitigation approaches in agricultural, nutrition, and food systems, and in targeting climate finance to benefit smallholder farmers. The subcommittee's efforts are intended to inform implementation of the USAID Climate Strategy 2022-2023 (see https://www.usaid.gov/climate/strategy for more information), the U.S. Government Global Food Security Strategy (see https://www.usaid.gov/what-we-do/agriculture-and-food-security/us-government-global-food-security-strategy), and other sectoral policies. A list of subcommittee members may be found at https://www.usaid.gov/bifad/climatechange/subcommittee.

A BIFAD-commissioned study on systemic solutions for climate change adaptation and mitigation in agricultural, nutrition, and food systems, guided by the subcommittee, was introduced and discussed at a BIFAD public meeting on August 31, 2022 (see link at https://www.usaid.gov/bifad/documents/185th-public-meeting-agenda). A final report is anticipated in Spring 2023. The study will achieve the following three objectives:

1. Suggest realistic 2030 targets and intermediate results to guide USAID program design for the agriculture, food, and nutrition sectors.

2. Identify priority leverage points for transformative systemic change and scaling climate finance to achieve the targets and intermediate results for the sector.

3. Prioritize areas for USAID action in the sector and recommend interventions.

At the public meeting, and in the lead-up to the 2022 United Nations Framework Convention on Climate Change 27th Conference of Parties (COP27, see https://cop27.eg/#/), authors of the BIFAD-commissioned study will present and discuss preliminary findings (to be posted publicly a few days prior to the meeting at www.usaid.gov/bifad/climatechange), related to the following:

1. Climate-resilient pathways for inclusive, transformative systemic change in agricultural, nutrition, and food systems;

2. Priority systems for inclusive transformation in food, agriculture, and nutrition;

3. Barriers to inclusive transformation in agricultural, nutrition, and food systems;

4. Priority leverage points for transformative systemic change; and

5. Climate finance solutions to catalyze inclusive adaptation and mitigation actions in the agricultural, food, and nutrition sector.

The public is invited to comment on the report's preliminary findings and recommendations and to submit additional case studies, evidence, and relevant publications to inform the study.

The BIFAD is a seven-member, presidentially appointed advisory board to the US. Agency for International Development (USAID) established in 1975 under Title XII of the Foreign Assistance Act, as amended, to ensure that USAID brings the assets of U.S. universities to bear on development challenges in agriculture and food security and supports their representation in USAID programming. Public comment is invited to further inform BIFAD's work.

For questions about registration, please contact the BIFAD Support Team at bifadsupport@tetratech.com. For questions about BIFAD, or to submit written comments, evidence, or materials in advance or following the meeting, please contact Clara Cohen, Designated Federal Officer for BIFAD in the Bureau for Resilience and Food Security at USAID. Interested persons may email her at ccohen@usaid.gov (Subject: Comment for 187th BIFAD Public Meeting) or telephone her at (202) 712-0119.

Clara Cohen,
Designated Federal Officer, BIFAD.

[FR Doc. 2022-21447 Filed 10-3-22; 8:45 am]

BILLING CODE 6116-01-P